JUDICIAL CONFERENCE OF THE UNITED STATES

Meeting of the Judicial Conference Advisory; Committee on Rules of Civil Procedure

AGENCY: Judicial Conference of the United States.

ACTION: Notice of open meeting.

SUMMARY: The Advisory Committee on Rules of Civil Procedure will hold a meeting on November 3, 2016, which will continue the morning of November 4, 2016, if necessary. The meeting will be open to public observation but not participation. An agenda and supporting materials will be posted at least 7 days in advance of the meeting at: http://www.uscourts.gov/rules-policies/records-and-archives-rules-committees/agenda-books.

DATES: November 3-4, 2016.

Time:

November 3, 2016: 1:30-5:00 p.m.

November 4, 2016 (if necessary): 9:00 a.m.-12:00 p.m.

ADDRESSES: Thurgood Marshall Federal Judiciary Building, Mecham Conference Center, Administrative Office of the United States Courts, One Columbus Circle NE., Washington, DC 20544.

FOR FURTHER INFORMATION CONTACT: Rebecca A. Womeldorf, Rules Committee Secretary, Rules Committee Support Office, Administrative Office of the United States Courts, Washington, DC 20544, telephone (202) 502-1820.

Dated: October 13, 2016.
Rebecca A. Womeldorf,
Rules Committee Secretary.

[FR Doc. 2016-25258 Filed 10-18-16; 8:45 am]

BILLING CODE 2210-55-P